DEPARTMENT OF DEFENSE

Defense Acquisition Regulations System

48 CFR Parts 204 and 217

[Docket DARS-2024-0030]

RIN 0750-AL70

Defense Federal Acquisition Regulation Supplement: Data Universal Numbering System to Unique Entity Identifier Transition (DFARS Case 2022-D023)

AGENCY: Defense Acquisition Regulations System, Department of Defense (DoD).

ACTION: Final rule.

SUMMARY: DoD is issuing a final rule amending the Defense Federal Acquisition Regulation Supplement (DFARS) to align the DFARS with the Federal Acquisition Regulation (FAR) transition from the Data Universal Numbering System to the unique entity identifier in the System for Award Management.

DATES: Effective October 1, 2024.

FOR FURTHER INFORMATION CONTACT: Tonya DeSaussure, telephone 202-805-1388.

SUPPLEMENTARY INFORMATION:

I. Background

DoD is issuing a final rule amending the DFARS to transition from the use of the Data Universal Numbering System (DUNS) number to the unique entity identifier as a means of identifying Federal contractors. The FAR published a final rule implementing the change from the DUNS number to the unique entity identifier in the Federal Register on November 18, 2015 (80 FR 72035). As a supplement to the FAR, the DFARS is required to reflect the same terminology. The unique entity identifier is the authoritative identifier at the Federal level. This transition allows the Government to streamline the entity identification and validation process, making it easier and less burdensome on entities to do business with the Federal Government.

II. Publication of This Final Rule for Public Comment Is Not Required by Statute

The statute that applies to the publication of the Federal Acquisition Regulation (FAR) is 41 U.S.C. 1707, Publication of Proposed Regulations. Subsection (a)(1) of the statute requires that a procurement policy, regulation, procedure, or form (including an amendment or modification thereof) must be published for public comment if it relates to the expenditure of appropriated funds and has either a significant effect beyond the internal operating procedures of the agency issuing the policy, regulation, procedure, or form, or has a significant cost or administrative impact on contractors or offerors. This final rule is not required to be published for public comment, because there is no significant cost or administrative impact on contractors or offerors. The FAR already requires contractors and offerors to use a unique entity identifier; this final rule merely updates the terminology used in the DFARS.

III. Applicability to Contracts At or Below the Simplified Acquisition Threshold (SAT), for Commercial Products (Including Commercially Available Off-the-Shelf (COTS) Items), and for Commercial Services

This final rule does not create any new solicitation provisions or contract clauses. It does not impact any existing solicitation provisions or contract clauses or their applicability to contracts valued at or below the simplified acquisition threshold, for commercial products including COTS items, or for commercial services.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, as amended.

V. Congressional Review Act

As required by the Congressional Review Act (5 U.S.C. 801-808) before an interim or final rule takes effect, DoD will submit a copy of the interim or final rule with the form, Submission of Federal Rules under the Congressional Review Act, to the U.S. Senate, the U.S. House of Representatives, and the Comptroller General of the United States. A major rule under the Congressional Review Act cannot take effect until 60 days after it is published in the Federal Register. The Office of Information and Regulatory Affairs has determined that this rule is not a major rule as defined by 5 U.S.C. 804.

VI. Regulatory Flexibility Act

The Regulatory Flexibility Act does not apply to this rule because this final rule does not constitute a significant DFARS revision within the meaning of FAR 1.501-1, and 41 U.S.C. 1707 does not require publication for public comment.

VII. Paperwork Reduction Act

This final rule does not contain any information collection requirements that require the approval of the Office of Management and Budget under the Paperwork Reduction Act (44 U.S.C. chapter 35).

List of Subjects in 48 CFR Parts 204 and 217

Government procurement.

Jennifer D. Johnson,
Editor/Publisher, Defense Acquisition Regulations System.

Therefore, the Defense Acquisition Regulations System amends 48 CFR parts 204 and 217 as follows:

1. The authority citation for 48 CFR parts 204 and 217 continues to read as follows:

Authority: 41 U.S.C. 1303 and 48 CFR chapter 1.

PART 204—ADMINISTRATIVE AND INFORMATION MATTERS

204.1103 [Amended]

2. Amend section 204.1103—

a. In paragraph (1) by removing “(SAM)” and adding “SAM” in its place;

b. In paragraph (2)(ii) by removing “Data Universal Numbering System (DUNS) number” and adding “unique entity identifier (UEI)” in its place;

c. In paragraph (3) by removing “DUNS number” and adding “UEI” in its place; and

d. In paragraph (5) by removing “DUNS number or DUNS+4 number” and adding “UEI” in its place.

PART 217—SPECIAL CONTRACTING METHODS

217.207 [Amended]

3. Amend section 217.207 in paragraph (c)(1) by removing “Data Universal Numbering System (DUNS) number” and adding “unique entity identifier” in its place.

[FR Doc. 2024-21095 Filed 9-25-24; 8:45 am]

BILLING CODE 6001-FR-P